DEPARTMENT OF TRANSPORTATION

Federal Aviation Administration

14 CFR Part 71

[Docket No. FAA-2022-0482; Airspace Docket No. 21-AEA-18]

RIN 2120-AA66

Amendment and Establishment of United States Area Navigation (RNAV) Routes; Northeast United States

AGENCY: Federal Aviation Administration (FAA), DOT.

ACTION: Final rule.

SUMMARY: This action amends three low altitude United States Area Navigation (RNAV) routes (T-routes), and establishes one T-route in support of the VHF Omnidirectional Range (VOR) Minimum Operational Network (MON) Program. The purpose is to enhance the efficiency of the National Airspace System (NAS) by transitioning from a ground-based to a satellite-based navigation system.

DATES: Effective date 0901 UTC, February 23, 2023. The Director of the Federal Register approves this incorporation by reference action under 1 CFR part 51, subject to the annual revision of FAA Order JO 7400.11 and publication of conforming amendments.

ADDRESSES: FAA Order JO 7400.11G, Airspace Designations and Reporting Points, and subsequent amendments can be viewed online at www.faa.gov/air_traffic/publications/. For further information, you can contact the Rules and Regulations Group, Federal Aviation Administration, 800 Independence Avenue SW, Washington, DC 20591; telephone: (202) 267-8783.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to preserve the safe and efficient flow of air traffic within the NAS.

History

The FAA published a notice of proposed rulemaking for Docket No. FAA-2022-0482, in the Federal Register (87 FR 29239; May 13, 2022), amending five RNAV T-routes, and establishing two T-routes in support of the VOR MON Program. Interested parties were invited to participate in this rulemaking effort by submitting written comments on the proposal. No comments were received.

United States RNAV T-routes are published in paragraph 6011 of FAA Order JO 7400.11G, dated August 19, 2022, and effective September 15, 2022, which is incorporated by reference in 14 CFR 71.1. The RNAV routes listed in this document will be subsequently published in FAA Order JO 7400.11.

Differences From the NPRM

United States RNAV routes T-212, T-221, T-299, and T-443 are removed from this docket because the associated VORs are not being decommissioned until a much later date. Since the VORs remain in service, there is no need to amend the routes at this time.

Route T-291 differs from the NPRM as follows. The COLIN, VA point was misidentified as a waypoint (WP) instead of a Fix. The LEDIE, NY, WP was included in the route description. Since this point marks a turn of less than one degree, it is not required for the T-291 description and is removed. The NPRM proposed replacement of the Milton, PA (MIP), VHF Omnidirectional Range and Tactical Air Navigational System (VORTAC) with the HYATT, PA, WP; and replacement of the Delancey, NY (DNY), VHF Omnidirectional Range/Distance Measuring Equipment (VOR/DME) with the DANZI, NY, WP. Since the VORTAC and VOR/DME remain in service, the two WPs are removed and the Milton and Delancey navigation aids are restored in the route description. Additionally, the FAA proposed to extend T-291 from Albany, NY to Nantucket, MA, replacing several navigation aids with WPs. However, this would involve prematurely replacing the navigation aids that are still in service. Consequently, the amended T-291 will extend from Harcum, VA, to Albany, NY. The following points after Albany are removed from the route: Barnes, MA (BAF), VORTAC; PUTNM, CT, WP; PROVI, RI, WP; AVONN, RI, Fix; BUZRD, MA, WP; Marthas Vineyard, MA (MVY), VOR/DME; and Nantucket, MA (ACK),VOR/DME.

In route T-295, the following points were misidentified as WPs instead of Fixes: TAPPA, VA; COLIN, VA; LOUIE, MD; GRACO, MD; LAAYK, PA; SAGES, NY; SASHA, MA; and BRNNS, ME. The HEXSN, PA, WP is removed from the route and replaced by the Lancaster, PA (LRP), VOR/DME. The WLKES, PA, WP is removed from the route description and replaced by the Wilkes-Barre, PA (LVZ), VORTAC. In addition, the points where T-295 overlays V-93 is changed to read “from the LOUIE, MD, Fix to the GRACO, MD, Fix.”

The amendment of route T-356 is added to this rule. A proposed amendment of several RNAV routes, including T-356, was published in a notice of proposed rulemaking for Docket No. FAA-2022-0857 in the Federal Register (87 FR 45721; July 29, 2022). No comments were received in response to the NPRM. Implementation of those routes, except for T-356, was delayed to a later date. Therefore, T-356 is added to this rule and is being amended as proposed in the July 29, 2022 NPRM.

Availability and Summary of Documents for Incorporation by Reference

This document amends FAA Order JO 7400.11G, Airspace Designations and Reporting Points, dated August 19, 2022, and effective September 15, 2022. FAA Order JO 7400.11G is publicly available as listed in the ADDRESSES section of this document. FAA Order JO 7400.11F lists Class A, B, C, D, and E airspace areas, air traffic service routes, and reporting points.

The Rule

This action amends 14 CFR part 71 by amending low altitude RNAV T-routes, designated T-291, T-295, and T-356, and establishing T-445 in the northeast United States to support the VOR MON Program.

T-291: T-291 extends between the LOUIE, MD, Fix, and the Albany, NY (ALB), VORTAC. This action moves the start point south of the LOUIE Fix to the Harcum, VA (HCM), VORTAC. The COLIN, VA, Fix, and the SHLBK, VA, WP, are added between the Harcum VORTAC and the LOUIE Fix. The BAABS, MD, WP is moved 3 nautical miles (NM) northwest of its current position to ensure clearance from restricted area R-4001. The new GRACO, MD, Fix is added between the LOUIE Fix and the BAABS WP per request from air traffic control. The VINNY, PA, Fix is added between the BAABS WP, and the Harrisburg, PA (HAR), VORTAC. The LEDIE, NY, WP is added between the LAAK, PA, Fix, and the Delancey, NY (DNY), VOR/DME As amended, T-291 extends between the Harcum, VA (HCM), VORTAC and the Albany, NY (ALB), VORTAC.

T-291 overlays VOR Federal airway V-33 from the Harcum, VA (HCM), VORTAC, to the COLIN, VA, Fix. It runs adjacent to airway V-213 from the COLIN, VA, Fix to the SHLBK, MD, WP. It then overlays airway V-93 to the GRACO, MD, Fix.

T-295: T-295 extends between the LOUIE, MD, Fix, and the Presque Isle, ME (PQI), VOR/DME. This action amends the route to begin south of the LOUIE, MD, Fix at the POORK, VA, WP. The following WPs are added between POORK, VA, and LOUIE, MD: HOUKY, VA (replaces the Hopewell, VA (HPW), VORTAC); SHLBK, MD. In addition, the COLIN, VA, Fix and the TAPPA, VA, Fix are added. The following modifications are made to T-295 between the LOUIE Fix and the Wilkes-Barre, PA (LVZ), VORTAC. The GRACO, MD, Fix is added between the LOUIE Fix, and the BAABS, MD, WP. The BAABS WP is moved 3 NM northwest of its current position. The Chester, MA (CTR), VOR/DME is added to the route between the SASHA, MA, Fix, and the KEYNN, NH, WP.

As amended, T-295 extends between POORK, VA, and Presque Isle, ME. The amended route overlays a portion of airway V-213 from Hopewell, VA to COLIN, VA. It overlays a portion of V-93 from the LOUIE, MD, Fix to the GRACO, MD, Fix.

T-356: T-356 extends from the WOOLY, MD, Fix to the ELUDE, MD, Fix. The FAA is extending T-356 at both ends. The start point of the route is moved from the WOOLY Fix to the HOGZZ, MD, WP. The HOGZZ WP is being renamed TWIRK, MD, WP. From the TWIRK WP, the route proceeds to the BRILA, MD, WP, then to the WOOLY, MD, Fix where T-356 joins the route as currently published to the SWANN, MD, Fix. The GATBY, MD, Fix and the KERNO, MD, Fix are removed from the route description. From the SWANN Fix, the route goes to the ODESA, MD, Fix. The ELUDE, MD, Fix is removed from the description. After the ODESA Fix, T-356 is extended northward to the WIGGZ, PA, WP (which will replace the Slate Run, PA (SLT), VORTAC). The following points are added after the ODESA Fix: APEER, MD, WP; REESY, PA, WP; FOLEZ, PA, WP; PIKKE, PA, WP; BOYER, PA, Fix; Ravine, PA (RAV), VORTAC; Selinsgrove, PA (SEG), VOR/DME; and the WIGGZ, PA, WP. T-356 overlays airway V-170 from the PIKKE, PA, WP to the WIGGZ, PA, WP. As amended, T-356 extends from the TWIRK, MD, WP, to the WIGGZ, PA, WP.

T-445: T-445 is a new route that extends between the Westminster, MD (EMI), VORTAC, and the AIRCO, NY, Fix. T-445 overlays a portion of airway V-265 between the Westminster VORTAC and the Harrisburg, PA (HAR), VORTAC. It also overlays a portion of airway V-31 from the Harrisburg VORTAC to the AIRCO, NY, Fix. In this route description, the LYKOM, PA, WP replaces the Williamsport, PA (FQM), VOR/DME, and the STUBN, NY, WP replaces the Elmira, NY (ULM), VOR/DME.

The full descriptions of the above routes are listed in the amendments to part 71 set forth below.

FAA Order JO 7400.11, Airspace Designations and Reporting Points, is published yearly and effective on September 15.

Regulatory Notices and Analyses

The FAA has determined that this regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending three low altitude RNAV T-routes, designated T-291, T-295, and T-356, and establishing T-445 in support of the VOR MON Program qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5b, which categorically excludes from further environmental impact review “Actions regarding establishment of jet routes and Federal airways (see 14 CFR 71.15, Designation of jet routes and VOR Federal airways) . . .”. As such, this action is not expected to result in any potentially significant environmental impacts. In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11G, Airspace Designations and Reporting Points, dated August 19, 2022, and effective September 15, 2022, is amended as follows:

Paragraph 6011 United States Area Navigation Routes.

* * * * *

T-291 Harcum, VA (HCM) to Albany, NY (ALB) [Amended]
Harcum, VA (HCM) | VORTAC | (Lat. 37°26′55.18″ N, long. 076°42′40.87″ W)
COLIN, VA | FIX | (Lat. 38°05′59.23″ N, long. 076°39′50.85″ W)
SHLBK, MD | WP | (Lat. 38°20′16.21″ N, long. 076°26′10.51″ W)
LOUIE, MD | FIX | (Lat. 38°36′44.33″ N, long. 076°18′04.37″ W)
GRACO, MD | FIX | (Lat. 38°56′29.81″ N, long. 076°11′59.22″ W)
BAABS, MD | WP | (Lat. 39°22′01.36″ N, long. 076°27′31.21″ W)
VINNY, PA | FIX | (Lat. 39°45′16.64″ N, long. 076°36′30.16″ W)
Harrisburg, PA (HAR) | VORTAC | (Lat. 40°18′08.06″ N, long. 077°04′10.41″ W)
Selinsgrove, PA (SEG) | VORTAC | (Lat. 40°47′27.09″ N, long. 076°53′02.55″ W)
Milton, PA (MIP) | VORTAC | (Lat. 41°01′24.21″ N, long. 076°39′55.04″ W)
MEGSS, PA | FIX | (Lat. 41°11′13.26″ N, long. 076°12′41.02″ W)
LAAYK, PA | FIX | (Lat. 41°28′32.64″ N, long. 075°28′57.31″ W)
Delancey, NY (DNY) | VOR/DME | (Lat. 42°10′41.81″ N., long. 074°57′24.99″ W)
Albany, NY (ALB) | VORTAC | (Lat. 42°44′50.21″ N, long. 073°48′11.46″ W)
* * * * * * *
T-295 POORK, VA to Presque Isle, ME (PQI) [Amended]
POORK, VA | WP | (Lat. 36°34′11.34″ N, long. 077°35′21.39″ W)
HOUKY, VA | WP | (Lat. 37°19′55.98″ N, long. 077°07′57.63″ W)
TAPPA, VA | FIX | (Lat. 37°58′12.66″ N, long. 076°50′40.62″ W)
COLIN, VA | FIX | (Lat. 38°05′59.23″ N, long. 076°39′50.85″ W)
SHLBK, MD | WP | (Lat. 38°20′16.21″ N, long. 076°26′10.51″ W)
LOUIE, MD | FIX | (Lat. 38°36′44.33″ N, long. 076°18′04.37″ W)
GRACO, MD | FIX | (Lat. 38°56′29.81″ N, long. 076°11′59.22″ W)
BAABS, MD | WP | (Lat. 39°22′01.36″ N, long. 076°27′31.21″ W)
Lancaster, PA (LRP) | VOR/DME | (Lat. 40°07′11.91″ N, long. 076°17′28.66″ W)
Wilkes Barre, PA(LVZ) | VORTAC | (Lat. 41°16′22.08″ N, long. 075°41′22.08″ W)
LAAYK, PA | FIX | (Lat. 41°28′32.64″ N, long. 075°28′57.31″ W)
SAGES, NY | FIX | (Lat. 42°02′46.33″ N, long. 074°19′10.33″ W)
SASHA, MA | FIX | (Lat. 42°07′58.07″ N, long. 073°08′55.39″ W)
Chester, MA (CTR) | VOR/DME | (Lat. 42°17′28.75″ N, long. 072°56′57.82″ W)
KEYNN, NH | WP | (Lat. 42°47′30.99″ N, long. 072°17′30.35″ W)
Concord, NH (CON) | VOR/DME | (Lat. 43°13′11.23″ N, long. 071°34′31.63″ W)
Kennebunk, ME (ENE) | VOR/DME | (Lat. 43°25′32.42″ N, long. 070°36′48.69″ W)
BRNNS, ME | FIX | (Lat. 43°54′08.64″ N, long. 069°56′42.81″ W)
Bangor, ME (BGR) | VORTAC | (Lat. 44°50′30.46″ N, long. 068°52′26.27″ W)
LAUDS, ME | WP | (Lat. 45°25′10.13″ N, long. 068°12′26.96″ W)
HULTN, ME | WP | (Lat. 46°02′22.29″ N, long. 067°50′02.06″ W)
Presque Isle, ME (PQI) | VOR/DME | (Lat. 46°46′27.07″ N, long. 068°05′40.37″ W)
* * * * * * *
T-356 TWIRK, MD to WIGGZ, PA [Amended]
TWIRK, MD | WP | (Lat. 39°34′36.70″ N, long. 077°12′44.75″ W)
BRILA, MD | WP | (Lat. 39°23′53.04″N, long. 077°08′31.89″ W)
WOOLY, MD | FIX | (Lat. 39°20′19.18″ N, long. 077°02′11.17″ W)
DROSA, MD | WP | (Lat. 39°18′30.32″ N, long. 076°58′06.22″ W)
OBWON, MD | WP | (Lat. 39°11′54.69″ N, long. 076°32′04.84″ W)
SWANN, MD | FIX | (Lat. 39°09′05.28″ N, long. 076°13′43.94″ W)
ODESA, MD | FIX | (Lat. 39°29′29.00″ N, long. 075°49′44.37″ W)
APEER, MD | WP | (Lat. 39°37′32.94″ N, long. 075°50′25.39″ W)
REESY, PA | WP | (Lat. 39°45′27.94″ N, long. 075°52′07.09″ W)
FOLEZ, PA | WP | (Lat. 39°55′32.76″ N, long. 075°49′16.49″ W)
PIKKE, PA | WP | (Lat. 40°05′27.21″ N, long. 075°52′12.11″ W)
BOYER, PA | FIX | (Lat. 40°16′36.84″ N, long. 076°05′09.38″ W)
Ravine, PA (RAV) | VORTAC | (Lat. 40°33′12.21″ N, long. 076°35′57.77″ W)
Selinsgrove, PA (SEG) | VOR/DME | (Lat. 40°47′27.09″ N, long. 076°53′02.55″ W)
WIGGZ, PA | WP | (Lat. 41°30′51.00″ N, long. 077°58′52.00″ W)
* * * * * * *
T-445 Westminster, MD (EMI) to AIRCO, NY [New]
Westminster, MD (EMI) | VORTAC | (Lat. 39°29′42.03″ N, long. 076°58′42.86″ W)
Harrisburg, PA (HAR) | VORTAC | (Lat. 40°18′08.06″ N, long. 077°04′10.41″ W)
Selinsgrove, PA (SEG) | VOR/DME | (Lat. 40°47′27.09″ N, long. 076°53′02.55″ W)
LYKOM, PA | WP | (Lat. 41°20′18.75″ N, long. 076°46′30.30″ W)
STUBN, NY | WP | (Lat. 42°05′38.58″ N, long. 077°01′28.68″ W)
BEEPS, NY | FIX | (Lat. 42°49′13.26″ N, long. 076°59′04.84″ W)
Rochester, NY (ROC) | VOR/DME | (Lat. 43°07′04.65″ N, long. 077°40′22.06″ W)
AIRCO, NY | FIX | (Lat. 43°12′36.66″ N, long. 078°28′57.00″ W)

* * * * *

Issued in Washington, DC, on December 1, 2022.
Scott M. Rosenbloom,
Manager, Airspace Rules and Regulations.

[FR Doc. 2022-26487 Filed 12-6-22; 8:45 am]

BILLING CODE 4910-13-P